DEPARTMENT OF HEALTH AND HUMAN SERVICES

Office of the Secretary

White House Commission on Complementary and Alternative Medicine Policy; Notice of Meeting

Pursuant to section 10(a) of the Federal Advisory Committee Act, as amended (5 U.S.C. Appendix 2), notice is given of a meeting of the White House Commission on Complementary and Alternative medicine Policy.

The purpose of this public meeting is to convene the Commission to discuss possible Federal policy regarding complementary and alternative medicine (CAM). The main focus of the meeting is the development and discussion of draft recommendations that may be included in the Interim and the Final Reports of the White House Commission on Complementary and Alternative Medicine Policy. Major issues before the Commission include the following: Coordination of CAM Research; Access, Delivery, and Reimbursement of CAM Services and Products; Training, Education, Credentialing, and Licensing of CAM Practitioners; Development and Dissemination of CAM Information for Health Care Providers and the Public; and CAM in Wellness, Self-Care, and Disease Prevention. Comments received at the meeting may be used by the Commission to prepare the Report to the President as required by the Executive Order.

Some Commission members may participate by telephone conference. Opportunities for oral statements by the public will be provided on July 3, from 3 p.m.-4 p.m. (Time approximate)

Name of Committee: The White House Commission on Complementary and Alternative Medicine Policy.

Date: July 2-3, 2001.

Time: July 2—10 a.m.-6 p.m.; July 3—8 a.m.-4 p.m.

Place: Jurys Washington Hotel, Westbury Conference Room, 1500 New Hampshire Ave., NW., Washington, DC 20036, Phone Number: 202-483-6000.

Contact Persons: Michele M. Chang, CMT, MPH, Executive Secretary, or Stephen C. Groft, Pharm.D., Executive Director, 6707 Democracy Boulevard, Room 880, MSC-5467, Bethesda, MD 20892-5467, Phone: (301) 435-7592, Fax: (301)480-1691, E-mail: WHCCAMP@mail.nih.gov.

Because of the need to obtain the views of the public on these issues as soon as possible and because of the early deadline for the report required of the Commission, this notice is being provided at the earliest possible time.

Supplementary Information: The President established the White House Commission on Complementary and Alternative Medicine Policy on March 7, 2000 by Executive Order 13147. The mission of the White House Commission on Complementary and Alternative Medicine Policy is to provide a report, through the Secretary of the Department of Health and Human Services, on legislative and administrative recommendations for assuring that public policy maximizes the benefits of complementary and alternative medicine to Americans.

Public Participation

The meeting is open to the public with attendance limited by the availability of space on a first come, first served basis. Members of the public who wish to present oral comments may register by faxing a request to register at 301-480-1691 or by accessing the website of the Commission at http://wwccamp.hhs.gov no later than June 25, 2001.

Oral comments will be limited to five minutes, three minutes to make a statement and two minutes to respond to questions from Commission members. Due to time constraints, only one representative from each organization will be allotted time for oral testimony. The number of speakers and the time allotted may also be limited by the number of registrants. Priority may be given to participants who have not yet addressed the Commission at previous meetings. All requests to register should include the name, address, telephone number, and business or professional affiliation of the interested party, and should indicate the area of interest or question to be addressed.

Any person attending the meeting who has not registered to speak in advance of the meeting will be allowed to make a brief oral statement during the time set aside for public comment if time permits, and at the Chairperson's discretion. Individuals unable to attend the meeting, or any interested parties, may send written comments by mail, fax, or electronically to the staff office of the Commission for inclusion in the public record.

When mailing or faxing written comments, please provide, if possible, an electronic version or on a diskette. Persons needing special assistance, such as sign language interpretation or other special accommodations, should contact the Commission staff at the address or telephone number listed above no later than June 25, 2001.

Dated: June 14, 2001.
LaVerne Y. Stringfield,
Director, Office of Federal Advisory Committee Policy.

[FR Doc. 01-15467 Filed 6-19-01; 8:45 am]

BILLING CODE 4140-01-M